DEPARTMENT OF THE INTERIOR

Bureau of Land Management

[4310-32-P HAG-06-0036]

Notice of Intent To Prepare a Resource Management Plan for the John Day Basin Portion of the Central Oregon Resource Area and Associated Environmental Impact Statement

AGENCY: Bureau of Land Management, Department of the Interior.

ACTION: Notice of intent.

SUMMARY: The Bureau of Land Management (BLM), Prineville District Office, intends to prepare a Resource Management Plan (RMP) with an associated Environmental Impact Statement (EIS) for the John Day Basin, and by this notice is announcing public scoping meetings. The RMP will amend or replace certain decisions within the John Day RMP (1985) and the portions of the Two Rivers RMP (1986) and Baker RMP (1989) that guide the management of public lands located in the Planning Area.

DATES: The BLM will announce public scoping meetings through local news media, newsletters, and the BLM Web site at http://www.or.blm.gov/landuseplanning.htm at least 15 days prior to the first meeting. We will provide formal opportunities for public participation upon publication of the Draft RMP/EIS.

ADDRESSES: You may submit scoping comments by any of the following methods:

• E-mail: John_Day_Basin_RMP@blm.gov.

• Fax: (541) 416-6798.

• Mail: BLM, Prineville District Office, 3050 NE 3rd St., Prineville, OR 97754.

Documents pertinent to this proposal may be examined at the BLM Prineville Field Office.

FOR FURTHER INFORMATION CONTACT: For further information or to have your name added to our mailing list, please contact Brent Ralston, Planning Team Leader, telephone (541) 416-6713; or e-mail: John_Day_Basin_RMP@blm.gov.

SUPPLEMENTARY INFORMATION: The planning area is located in parts of Sherman, Gilliam, Morrow, Umatilla, Grant, Wheeler, Jefferson, and Wasco Counties in the State of Oregon. This planning area encompasses approximately 452,000 acres of BLM-managed land. The plan will fulfill the needs and obligations set forth by the National Environmental Policy Act (NEPA), the Federal Land Policy and Management Act (FLPMA), and BLM management policies. The BLM will work collaboratively with interested parties to identify the management decisions that are best suited to local, regional, and national needs and concerns.

The public scoping process identifies relevant issues that will influence the scope of the environmental analysis and EIS alternatives. These issues also guide the planning process. You may submit comments on issues and planning criteria in writing to the BLM at any public scoping meeting, or you may submit them to the BLM using one of the methods listed in the ADDRESSES section above. To be most helpful, you should submit formal scoping comments within 30 days after the last public meeting. The minutes and list of attendees for each meeting will be available to the public and open for 30 days after the meeting to any participants who wish to clarify the views they expressed. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

Preliminary issues and management concerns have been identified by BLM personnel, other agencies, and various individuals and user groups. The major preliminary issues to be addressed in this planning effort include: vegetation management (including upland and watershed management, riparian areas and wetlands, forests and woodlands, fire and fuels management, wildlife habitat management, special status species, and noxious weeds), water quality/aquatic resources/fisheries, special management areas (including Areas of Critical Environmental Concern, significant caves, wild and scenic rivers, and wilderness study areas); recreation management; cultural and paleontological resources; socioeconomics and environmental justice; energy and minerals; lands and realty; and transportation (including off highway vehicle management and public access).

After public comments are gathered on these and other issues that the plan should address, they will be placed in one of three categories:

1. Issues to be resolved in the plan;

2. Issues to be resolved through policy or administrative action; or

3. Issues beyond the scope of this plan.

The BLM will provide an explanation in the plan as to why we placed an issue in category two or three. In addition to these major issues, a number of management questions and concerns will be addressed in the plan. The public is encouraged to help identify these questions and concerns during the scoping phase.

The BLM will use an interdisciplinary approach to develop the plan in order to consider the variety of resource issues and concerns identified. Specialists with expertise in the following disciplines will be involved in the planning process: Rangeland management, minerals and geology, forestry, fire and fuels, botany, outdoor recreation, archaeology, paleontology, wildlife and fisheries, lands and realty, hydrology, soils, civil engineering, sociology, and economics.

Dated: December 19, 2005.
Elaine M. Brong,
State Director, Oregon/Washington BLM.

[FR Doc. E6-2388 Filed 2-17-06; 8:45 am]

BILLING CODE 4310-33-P